DEPARTMENT OF HEALTH AND HUMAN SERVICES

Administration for Children and Families

Submission for OMB Review; ORR-3 and ORR-4 Report Forms for the Unaccompanied Refugee Minors Program (OMB #0970-0034)

AGENCY: Office of Refugee Resettlement, Administration for Children and Families, HHS.

ACTION: Request for Public Comment.

SUMMARY: The Office of Refugee Resettlement (ORR) is requesting a 3-year extension of the ORR-3 and ORR-4 Report Forms (OMB #0970-0034, expiration 01/31/2021). ORR proposes revisions to improve clarity, secure outcome-based data, increase compliance with reporting requirements, and reduce burden.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The ORR-3 Report is submitted within 30 days of the minor's initial placement in the state, within 60 days of a change in the minor's status (e.g., change in legal responsibility, change in foster home placement, change in immigration data), and within 60 days of termination from the program. The ORR-4 Report is submitted every 12 months beginning on the first anniversary of the initial placement date, to record outcomes of the minor's progress.

Respondents: Unaccompanied Refugee Minors (URM) State Agencies, URM Provider Agencies, and Youth Participants.

Annual Burden Estimates: URM State Agencies.

Instrument | Total number of respondents | Total number of responses per respondent | Average burden hours per response | Total burden hours | Annual burden hours
ORR-3 Unaccompanied Refugee Minors Placement Report | 15 | 432 | 0.25 | 1,620 | 540
ORR-4 Unaccompanied Refugee Minors Outcomes Report | 15 | 282 | 0.50 | 2,115 | 705

Estimated Total Annual Burden Hours (State Agencies): 1,245.

Annual Burden Estimates: URM Provider Agencies.

Instrument | Total number of respondents | Total number of responses per respondent | Average burden hours per response | Total burden hours | Annual burden hours
ORR-3 Unaccompanied Refugee Minors Placement Report | 24 | 270 | 0.50 | 3,240 | 1,080
ORR-4 Unaccompanied Refugee Minors Outcomes Report | 24 | 162 | 1.0 | 3,888 | 1,296

Estimated Total Annual Burden Hours (Provider Agencies): 2,376.

Annual Burden Estimates: Youth Participants.

Instrument | Total number of respondents | Total number of responses per respondent | Average burden hours per response | Total burden hours | Annual burden hours
ORR-4 Unaccompanied Refugee Minors Outcomes Report | 1032 | 3 | 0.50 | 1,548 | 516

Estimated Total Annual Burden Hours (Youth Participants): 516.

Total Estimated Annual Burden Hours: 4,137.

Authority: 8 U.S.C. 1522(d).

Mary B. Jones,
ACF/OPRE Certifying Officer.

[FR Doc. 2020-27194 Filed 12-10-20; 8:45 am]

BILLING CODE 4184-01-P